DEPARTMENT OF HEALTH AND HUMAN SERVICES

[Document Identifier: OS-0990-0488-30D]

Agency Information Collection Request; 30-Day Public Comment Request

AGENCY: Office of the Secretary, Administration for Strategic Preparedness and Response (ASPR), U.S. Department of Health and Human Services (HHS).

ACTION: Notice.

SUMMARY: In compliance with the requirement of the Paperwork Reduction Act of 1995, the Office of the Secretary (OS), Administration for Strategic Preparedness and Response (ASPR), HHS, submitted an Information Collection Request (ICR) to the Office of Management and Budget (OMB) for review and approval. OMB will accept further comments from the public during the review and approval period.

DATES: Comments on the ICR must be received on or before March 30, 2026.

ADDRESSES: Written comments and recommendations for the proposed information collection should be sent within 30 days of publication of this notice via www.reginfo.gov/public/do/PRAMain. Find this information collection by selecting “Currently under Review” and “Select Agency: Department of Health and Human Services”.

FOR FURTHER INFORMATION CONTACT: Wayland Coker, ASPR Center for Industrial Base Management and Supply Chain (IBMSC), Chief Supply Chain Strategist, and Acting Interim Assistant Director of IBMSC at wayland.coker@hhs.gov, or call (202) 875-1103. When submitting comments or requesting information, please include the document identifier 0990-0488-30D and project title for reference.

SUPPLEMENTARY INFORMATION: OS, ASPR, and HHS, is announcing that a proposed extension of a generic information collection has been submitted to OMB for review and approval. OMB will accept further comments from the public during the review and approval period. No comments were received in the initial 60-day comment period. Interested persons are invited to send comments regarding this burden estimate or any other aspect of this collection of information, including any of the following subjects: (1) The necessity and utility of the proposed information collection for the proper performance of the Agency's functions; (2) the accuracy of the estimated burden; (3) ways to enhance the quality, utility, and clarity of the information to be collected; and (4) the use of automated collection techniques or other forms of information technology to minimize the information collection burden.

Title of the Collection: Ensure a Strong Public Health Supply Chain Through Streamlined Oversight and American Priorities.

Type of Collection: Extension.

Office of Management and Budget (OMB) No. 0990-0488—Administration for Strategic Preparedness and Response—Center for Industrial Base Management and Supply Chain.

Abstract: HHS, ASPR is seeking approval by OMB on an extension of the existing clearance (OMB Control Number: 0990-0488, Expiration Date: March 31, 2026). HHS is working with the White House and across the federal interagency to launch a multiyear implementation involving the identification and coordination of measurable activities across the United States government, state, local, tribal, and territorial (SLTT) jurisdictions, and private sector partners. Cross-sectoral engagement is the underpinning of many of the interdependent implementation activities. For example, one such activity involves information collection from SLTT partners on facility, local, and state stockpiling plans to ensure coordinated plans are in place for a future public health emergency. Potential engagements include, and are not limited to, surveys, stakeholder meetings, requests for information (RFI), town hall meetings, and workshops. With each of these different mechanisms of engagement, there is a varied frequency ranging from single engagements to regularly recurring meetings.

In 2025, the White House capacity and strengthening the public health supply chain through a series of executive actions focused on reducing foreign dependency, enhancing domestic manufacturing capacity, and improving emergency preparedness. This includes the establishment of the Strategic Active Pharmaceutical Ingredients Reserve (SAPIR), directed by HHS and managed through ASPR, to ensure a secure, domestic supply of essential drug components. The administration has also invoked Section 232 of the Trade Expansion Act of 1962 to assess whether reliance on imports of materials such as processed critical minerals and copper poses a national security risk, including risks to the production of pharmaceuticals and other medical countermeasures. These coordinated efforts reflect a broader federal strategy to increase the resilience, agility, and visibility of the public health supply chain in support of future emergency response operations. To support White House priorities, HHS seeks a 3-year extension to its Paperwork Reduction Act clearance and will engage with SLTT, trade groups, mixed cross-sector audiences, non-governmental organizations, manufacturers, academia, health care providers and facilities, and local communities.

Estimated Annualized Burden Table Over Three Years
Type of respondent | Form name | Number of respondents | Number of responses per respondent | Average burden per response (in hours) | Total burden hours
Private sector companies, SLTT, Trade groups and associations, NGOs, Manufacturers, distributors, Academia, Healthcare delivery providers/facilities, Public, USG Supply chain inventory holders, Biopharmaceutical industry, Biotechnology development companies, Communities, GPOs, standards development organizations, logistics, third party contractors, purchasing organizations, professional associations/societies, Mixed cross-sector audience, labor unions, workforce training providers, organizations, state and local workforce boards, and individuals who rely on wearable medical countermeasures | Informed consent Demographics standardized questionnaire with decision logic allowing some questions to be omitted Cognitive questionnaire Formative interviews and focus groups Town halls and public meetings Supply chain questionnaires Knowledge-based questionnaires Interviews and focus groups Instrumented information collection | 32,800 32,800 5,990 6,600 10,200 1,000 6,000 3,000 160 | 1 1 1 2 2 156 1 1 1 | 0.08 0.25 8 4 8 0.5 0.5 1 0.5 | 2,624 8,200 47,920 52,800 163,200 78,000 3,000 3,000 80
Total Burden Hours Over Three Years |  |  |  |  | 358,824

Catherine Howard,
Paperwork Reduction Act Reports Clearance Officer, Office of the Secretary

[FR Doc. 2026-03919 Filed 2-26-26; 8:45 am]

BILLING CODE 4150-37-P